DEPARTMENT OF HOUSING AND URBAN DEVELOPMENT

[Docket No. FR-5480-N-86]

Notice of Submission of Proposed Information Collection to OMB; Emergency Homeowners' Loan Program—Required Data Elements Collection

AGENCY: Office of the Chief Information Officer, HUD.

ACTION: Notice.

SUMMARY: The proposed information collection requirement described below has been submitted to the Office of Management and Budget (OMB) for review, as required by the Paperwork Reduction Act. The Department is soliciting public comments on the subject proposal.

HUD is implementing a mortgage relief program entitled the Emergency Homeowners Loan Program. The program will offer a declining balance, deferred payment “bridge loan” (non-recourse, subordinate loan with zero interest) for up to $50,000 to assist eligible homeowners with payments of arrearages, including mortgages, delinquent taxes, insurance premiums, condominium or homeowners association fees; late fees; and certain foreclosure-related attorney's fee. In addition to payment of arrearages, EHLP funds may also be used to assist eligible homeowners to make up to 24 months of mortgage payments on their mortgage principal, interest, taxes and insurance (PITI), as well as condominium/homeowner association fees, as applicable.

DATES: Comments Due Date: September 23, 2011.

ADDRESSES: Interested persons are invited to submit comments regarding this proposal. Comments should refer to the proposal by name and/or OMB approval Number (2502-0597) and should be sent to: HUD Desk Officer, Office of Management and Budget, New Executive Office Building, Washington, DC 20503; fax: 202-395-5806. E-mail: OIRA_Submission@omb.eop.gov fax: 202-395-5806.

FOR FURTHER INFORMATION CONTACT: Colette Pollard, Reports Management Officer, QDAM, Department of Housing and Urban Development, 451 Seventh Street, SW., Washington, DC 20410; e-mail Colette Pollard at Colette. Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Emergency Homeowners' Loan Program—Required Data Elements Collection.

OMB Approval Number: 2502-0597.

Form Numbers: 96020-EHLP, 96025a-EHLP, 96025b-EHLP, 96022-EHLP, 96023a-EHLP, 96023b-EHLP, 96026-EHLP.

Description of the Need for the Information and its Proposed Use: HUD is implementing a mortgage relief program entitled the Emergency Homeowners Loan Program. The program will offer a declining balance, deferred payment “bridge loan” (non-recourse, subordinate loan with zero interest) for up to $50,000 to assist eligible homeowners with payments of arrearages, including mortgages, delinquent taxes, insurance premiums, condominium or homeowners association fees; late fees; and certain foreclosure-related attorney's fee. In addition to payment of arrearages, EHLP funds may also be used to assist eligible homeowners to make up to 24 months of mortgage payments on their mortgage principal, interest, taxes and insurance (PITI), as well as condominium/homeowner association fees, as applicable.

Frequency of Submission: On occasion.

| Number of respondents | Annual responses | × | Hours per response | Burden hours
Reporting Burden | 36,264 | 5.915 |  | 0.753 | 161,548

Total Estimated Burden Hours: 161,548.

Status: Revision of a currently approved collection.

Authority: Section 3507 of the Paperwork Reduction Act of 1995, 44 U.S.C. 35, as amended.

Dated: August 18, 2011.
Colette Pollard,
Departmental Reports Management Officer, Office of the Chief Information Officer.

[FR Doc. 2011-21579 Filed 8-23-11; 8:45 am]

BILLING CODE 4210-67-P